DEPARTMENT OF AGRICULTURE

Animal and Plant Health Inspection Service

9 CFR Part 130

[Docket No. 98-045-3]

Veterinary Services User Fees; Pet Food Facility Inspection and Approval Fees; Correction

AGENCY: Animal and Plant Health Inspection Service, USDA.

ACTION: Final rule; correction.

SUMMARY: We are correcting an error in the rule portion of a final rule concerning user fees for the inspection and approval of pet food manufacturing, rendering, blending, digest, and spraying and drying facilities. The rule replaced hourly rate user fees for those services with flat rate user fees. The final rule was published in the Federal Register on June 20, 2000 (65 FR 38179-38182, Docket No. 98-045-2), and is effective on July 20, 2000.

EFFECTIVE DATE: July 20, 2000.

FOR FURTHER INFORMATION CONTACT: Ms. Donna Ford, Section Head, Financial Systems and Services Branch, Budget and Accounting Service Enhancement Unit, MRPBS, APHIS, 4700 River Road Unit 54, Riverdale, MD 20737-1232; (301) 734-8351.

SUPPLEMENTARY INFORMATION: On June 20, 2000, we published in the Federal Register a final rule that amended the user fee regulations to replace the hourly rate user fees for the inspection and approval of pet food manufacturing, rendering, blending, digest, and spraying and drying facilities with flat rate user fees that would cover the cost of all inspections required for annual approval.

In the rule portion of the final rule, the flat rate user fee for the renewal of approval of pet food spraying and drying facilities was listed as $162.00 for all inspections required during the year. As explained in the SUPPLEMENTARY INFORMATION section of the final rule, the correct flat rate user fee for this service is $162.50. This document corrects that error.

In Docket No. 98-045-2, published on June 20, 2000 (65 FR 38179-38182), make the following correction: On page 38181, in § 130.11, in the table, under the column User Fee, correct “$162.00” to read “$162.50”.

Done in Washington, DC, this 14th day of July 2000.
Craig A. Reed,
Administrator, Animal and Plant Health Inspection Service.

[FR Doc. 00-18366 Filed 7-19-00; 8:45 am]

BILLING CODE 3410-34-P